DEPARTMENT OF DEFENSE

Office of the Secretary

[Transmittal No. 25-107]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-107, Policy Justification, and Sensitivity of Technology.

Dated: February 4, 2026.
Stephanie J. Bost,
Alternate OSD Federal Register Liaison Officer, Department of Defense.

BILLING CODE 6001-FR-P

BILLING CODE 6001-FR-C

Transmittal No. 25-107

Notice of Proposed Issuance of Letter of Offer Pursuant to Section 36(b)(1) of the Arms Export Control Act, as amended

(i) Prospective Purchaser: Government of India

(ii) Total Estimated Value:

Major Defense Equipment * | $39.5 million
Other | $ 7.6 million
TOTAL | $47.1 million

Funding Source: National Funds

(iii) Description and Quantity or Quantities of Articles or Services under Consideration for Purchase:

Major Defense Equipment (MDE):

Up to two hundred sixteen (216) M982A1 Excalibur tactical projectiles

Non-Major Defense Equipment:

The following non-MDE items will also be included: ancillary items; Portable Electronic Fire Control Systems (PEFCS) with Improved Platform Integration Kit (iPIK); primers; propellant charges; United States (U.S.) Government technical assistance; technical data; repair and return services; and other related elements of logistics and program support.

(iv) Military Department: Army (IN-B-UNA)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 19, 2025

* as defined in Section 47(6) of the Arms Export Control Act.

POLICY JUSTIFICATION

India—Excalibur Projectiles

The Government of India has requested to buy up to two hundred sixteen (216) M982A1 Excalibur tactical projectiles. The following non-MDE items will also be included: ancillary items; Portable Electronic Fire Control Systems (PEFCS) with Improved Platform Integration Kit (iPIK); primers; propellant charges; U.S. Government technical assistance; technical data; repair and return services; and other related elements of logistics and program support. The estimated total cost is $47.1 million.

This proposed sale will support the foreign policy and national security objectives of the U.S. by helping to strengthen the U.S.-Indian strategic relationship and to improve the security of a major defense partner which continues to be an important force for political stability, peace, and economic progress in the Indo-Pacific and South Asia regions.

The proposed sale will improve India's capability to meet current and future threats by providing precision capability equipment, which will increase first strike accuracy in its brigades. India will have no difficulty absorbing these articles and services into its armed forces.

The proposed sale of this equipment and support will not alter the basic military balance in the region.

The principal contractor will be RTX Corporation, located in Arlington, VA. At this time, the U.S. Government is not aware of any offset agreement proposed in connection with this potential sale. Any offset agreement will be defined in negotiations between the purchaser and the contractor.

Implementation of this proposed sale will not require the assignment of any additional U.S. Government or contractor representatives to India.

There will be no adverse impact on U.S. defense readiness as a result of this proposed sale.

Transmittal No. 25-107

Notice of Proposed Issuance of Letter of Offer Pursuant to Section 36(b)(1) of the Arms Export Control Act

Annex

Item No. vii

(vii) Sensitivity of Technology:

1. The M982A1 Excalibur 155 mm high explosive projectile is an all-up projectile with global positioning system (GPS) aided precision guidance capability provided by either Selective Availability Anti-Spoofing Module (SAASM) or M-Code. The Excalibur provides the ability to accurately engage targets at distances up to 25 miles. Excalibur is commonly fired from U.S. Army and Marine Corps towed and self-propelled howitzer systems, including the M777 and M109.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that India can provide substantially the same degree of protection for the sensitive technology being released as the U.S. Government. This proposed sale is necessary in furtherance of the U.S. foreign policy and national security objectives outlined in the Policy Justification.

5. All defense articles and services listed in this transmittal have been authorized for release and export to the Government of India.

[FR Doc. 2026-02395 Filed 2-5-26; 8:45 am]

BILLING CODE 6001-FR-P